DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Cook Inlet Beluga Whale (CIBW) Economic Survey.

OMB Control Number: None.

Form Number(s): NA.

Type of Request: Regular submission (new information collection).

Number of Respondents: 2,428.

Average Hours per Response: Full survey, 25 minutes; follow-up telephone interview, 5 minutes.

Burden Hours: 814.

Needs and Uses: This request is for a new information collection.

The population of Cook Inlet beluga whales in the Cook Inlet of Alaska is one of five distinct population segments in United States (U.S.) waters. It was listed as endangered under the Endangered Species Act on October 22, 2008 (73 FR 62919), and Critical Habitat was designated in a final rule published on April 11, 2011 (76 FR 20180). The public benefits associated with protection actions for the Cook Inlet beluga whale are substantially the result of the non-consumptive value people attribute to such protection. This includes active use values associated with being able to view beluga whales and passive use, or “existence”, values unrelated to direct human use. No empirical estimates of these values for Cook Inlet beluga whales are currently available, but this information is needed for decision makers to more fully understand the trade-offs involved in evaluating population recovery planning alternatives and to complement other information available about the costs, benefits, and impacts of alternative plans.

The National Marine Fisheries Service (NMFS) plans to conduct a survey to collect data for estimating non-consumptive economic benefits associated with changes in extinction risk resulting from protection actions for the Cook Inlet beluga whale. The analysis NMFS completed prior to designating Critical Habitat for Cook Inlet beluga whales described non-consumptive benefits in limited qualitative terms only. Adding empirical data about non-consumptive benefits remains the most significant gap to enabling a complete and balanced economic analysis. The results from this survey should be useful to NMFS and the public in the future as NMFS considers various actions under the recovery planning process for Cook Inlet beluga whales. Any future regulatory actions would include analyses of costs and benefits of the proposed measures as well as opportunities for public input.

During 2011, NMFS fielded a pilot version of the survey to a small number of U.S. households, primarily to evaluate the survey administration procedures prior to sending the survey out to a larger and more representative sample. The results of this pretest indicated the need to make minor adjustments to the survey administration (e.g., timing of mailings and telephone calls), which will be incorporated in the data collection to which this notice pertains.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: May 30, 2012.
Gwellnar Banks,
Management Analyst, Office of the Chief Information Officer.

[FR Doc. 2012-13428 Filed 6-1-12; 8:45 am]

BILLING CODE 3510-22-P